DEPARTMENT OF COMMERCE

Foreign-Trade Zones Board

[B-15-2021]

Foreign-Trade Zone (FTZ) 31—Granite City, Illinois; Notification of Proposed Production Activity; M.M.O. Companies, Inc. (Disassembly of Firearms and Ammunition); Mascoutah and Edwardsville, Illinois

America's Central Port District, grantee of FTZ 31, submitted a notification of proposed production activity to the FTZ Board on behalf of M.M.O. Companies, Inc. (M.M.O.), located in Mascoutah and Edwardsville, Illinois. The notification conforming to the requirements of the regulations of the FTZ Board (15 CFR 400.22) was received on March 1, 2021.

The M.M.O. facility is located within Subzone 31E. The facility is used for the disassembly of firearms and ammunition as well as the modification of receivers. Pursuant to 15 CFR 400.14(b), FTZ activity would be limited to the specific foreign-status materials and components and specific finished products described in the submitted notification (as described below) and subsequently authorized by the FTZ Board.

Production under FTZ procedures could exempt M.M.O. from customs duty payments on the foreign-status components used in export production. On its domestic sales, for the foreign-status materials/components noted below, M.M.O. would be able to choose the duty rates during customs entry procedures that apply to: Trigger groups, gas piston assemblies, sight assemblies, magazines, rail attachments, dust cover assemblies, muzzle device assemblies, bolt carriers, bolts, operating rods, cocking handles, carrying handles, foregrips/handguards, buttstocks, pistol grips and bayonet lugs from military rifles; empty ammunition cartridge casings; smokeless ammunition powder; ammunition primer; pistol receivers; pistol barrels; slides, hammers, trigger groups, sights, magazines, grips, bolt carriers and bolts from pistols; foregrips, buttstocks, pistol grips, trigger groups, gas piston assemblies, sight assemblies, magazines, rail attachments, dust cover assemblies, muzzle device assemblies, bolt carriers, bolts, carrying handles, operating rods, cocking handles, sporting rifle receivers, sporting rifle barrels and sporting barreled receivers from rifles; shotgun barrels; shotgun receivers; and, foregrips, buttstocks, pistol grips, trigger groups, gas piston assemblies, sight assemblies, magazines, rail attachments, dust cover assemblies, muzzle device assemblies, bolt carriers, bolts, carrying handles, operating rods and cocking handles for shotguns (duty rate ranges from duty-free to 4.2%). M.M.O. would be able to avoid duty on foreign-status components which become scrap/waste. Customs duties also could possibly be deferred or reduced on foreign-status production equipment.

The components and materials sourced from abroad include: Military rifles; machine guns; semi-automatic pistols; steel, aluminum and plastic pistol receivers; steel and plastic pistol barrels; semiautomatic rifles (centerfire); steel, aluminum and plastic rifle receivers; steel and aluminum rifle barrels; military shotguns; steel and aluminum shotgun barrels; semiautomatic shotguns; pump-action shotguns; steel, aluminum and plastic shotgun receivers; and, 5.56mm, 7.62mm, .223, .50BMG, .308, 9mm, .45ACP and .40 ammunition (duty rate ranges from duty-free to 13%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is April 19, 2021.

A copy of the notification will be available for public inspection in the “Reading Room” section of the Board's website, which is accessible via www.trade.gov/ftz.

For further information, contact Elizabeth Whiteman at Elizabeth.Whiteman@trade.gov.

Dated: March 2, 2021.
Andrew McGilvray,
Executive Secretary.

[FR Doc. 2021-04718 Filed 3-5-21; 8:45 am]

BILLING CODE 3510-DS-P